FEDERAL DEPOSIT INSURANCE CORPORATION

Notice of an Open Meeting of the FDIC Advisory Committee on Community Banking

AGENCY: Federal Deposit Insurance Corporation.

SUMMARY: In accordance with the Federal Advisory Committee Act, notice is hereby given of a meeting of the FDIC Advisory Committee on Community Banking. The Advisory Committee will provide advice and recommendations on a broad range of policy issues that have particular impact on small community banks throughout the United States and the local communities they serve. The meeting is open to the public. The public's means to observe this meeting of the Advisory Committee on Community Banking will be both in-person and via a Webcast live on the internet. In addition, the meeting will be recorded and subsequently made available on-demand approximately two weeks after the event. To view the live event, visit http://fdic.windrosemedia.com.

DATES: Thursday, June 1, 2023, from 9 a.m. to 3 p.m.

ADDRESSES: The meeting will be held in the FDIC Board Room on the sixth floor of the FDIC building located at 550 17th Street NW, Washington, DC.

FOR FURTHER INFORMATION CONTACT: Requests for further information concerning the meeting may be directed to Debra A. Decker, Committee Management Officer of the FDIC at (202) 898-8748.

SUPPLEMENTARY INFORMATION:

Agenda: The agenda will include a discussion of issues of interest to community banks. The agenda is subject to change. Any changes to the agenda will be announced at the beginning of the meeting.

Type of Meeting: The meeting will be open to the public, limited only by the space available on a first-come, first-served basis. For security reasons, members of the public will be subject to security screening procedures and must present a valid photo identification to enter the building. The FDIC will provide attendees with auxiliary aids (e.g., sign language interpretation) required for this meeting. Those attendees needing such assistance should email InterpreterDC@fdic.gov at least two days before the meeting to make the necessary arrangements. If you require a reasonable accommodation to participate, please email ReasonableAccommodationRequests@fdic.gov to make necessary arrangements. To view the recording, visit http://fdic.windrosemedia.com/index.php?category=Community+Banking+Advisory+Committee. Written statements may be filed with the Advisory Committee before or after the meeting.

Federal Deposit Insurance Corporation.
Dated at Washington, DC, on May 10, 2023.
James P. Sheesley,
Assistant Executive Secretary.

[FR Doc. 2023-10338 Filed 5-12-23; 8:45 am]

BILLING CODE 6714-01-P